DEPARTMENT OF THE INTERIOR

Office of Surface Mining Reclamation and Enforcement

[S1D1S SS08011000 SX064A000 167S180110; S2D2S SS08011000 SX064A000 16XS501520]

Notice of Proposed Information Collection for 1029-0051

AGENCY: Office of Surface Mining Reclamation and Enforcement, Interior.

ACTION: Notice and request for comments.

SUMMARY: In compliance with the Paperwork Reduction Act of 1995, the Office of Surface Mining Reclamation and Enforcement (OSMRE) is announcing its intention to request approval to continue the collection of information for its Permanent Program Inspection and Enforcement Procedures. This information collection activity was previously approved by the Office of Management and Budget (OMB), and assigned control number 1029-0051.

DATES: Comments on the proposed information collection activities must be received by February 8, 2016, to be assured of consideration.

ADDRESSES: Comments may be mailed to John Trelease, Office of Surface Mining Reclamation and Enforcement, 1951 Constitution Ave. NW., Room 203-SIB, Washington, DC 20240. Comments may also be submitted electronically to jtrelease@osmre.gov. Please reference control number 1029-0051 in your correspondence.

FOR FURTHER INFORMATION CONTACT: To request additional information about this collection of information, contact John Trelease, at (202) 208-2783 or by email listed in ADDRESSES.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. This notice identifies an information collection that OSMRE will be submitting to OMB for renewed approval. The collection is contained in 30 CFR part 840—Permanent Program Inspection and Enforcement Procedures. OSMRE will request a 3-year term of approval for each information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSMRE's submission of the information collection request to OMB.

Before including your address, phone number, email address, or other personal identifying information in your comment, you should be aware that your entire comment-including your personal identifying information-may be made publicly available at any time. While you can ask us in your comment to withhold your personal identifying information from public review, we cannot guarantee that we will be able to do so.

Title: 30 CFR part 840—Permanent Program Inspection and Enforcement Procedures.

OMB Control Number: 1029-0051.

Abstract: This provision requires the regulatory authority to conduct periodic inspections of coal mining activities, and prepare and maintain inspection reports and other related documents for OSMRE and public review. This information is necessary to meet the requirements of the Surface Mining Control and Reclamation Act of 1977 and its public participation provisions. Public review assures the public that the State is meeting the requirements of the Act and approved State regulatory program.

Bureau Form Number: None.

Frequency of Collection: Once and annually.

Description of Respondents: State Regulatory Authorities.

Total Annual Responses: 106,382.

Total Annual Burden Hours: 748,140.

Total Non-Wage Costs: $1,440.

Obligation To Respond: Required in order to obtain or retain benefits.

Dated: December 4, 2015.
John A. Trelease,
Acting Chief, Division of Regulatory Support.

[FR Doc. 2015-30990 Filed 12-8-15; 8:45 am]

BILLING CODE 4310-05-P